DEPARTMENT OF TRANSPORTATION

Federal Railroad Administration

[Docket No. FRA-2019-0004-N-23]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified below.

DATES: Interested persons are invited to submit comments on or before February 18, 2020.

ADDRESSES: Submit written comments on the ICR activities by mail to: Ms. Kim Toone, Information Collection Clearance Officer, Office of Information Technology, Federal Railroad Administration, 1200 New Jersey Avenue SE, Washington, DC 20590. Commenters requesting FRA to acknowledge receipt of their respective comments must include a self-addressed stamped postcard stating, “Comments on OMB Control Number 2130-0593,” and should also include the title of the ICR. Alternatively, comments may be faxed to Ms. Toone at Kim.Toone@dot.gov. Please refer to the assigned OMB control number in any correspondence submitted. FRA will summarize comments received in response to this notice in a subsequent notice and include them in its information collection submission to OMB for approval.

FOR FURTHER INFORMATION CONTACT: Ms. Kim Toone, Information Collection Clearance Officer, Office of Information Technology, Federal Railroad Administration, 1200 New Jersey Avenue SE, Washington, DC 20590, (telephone: 202-493-6132).

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Generic Clearance for the Collection of Qualitative Feedback on Agency Service.

OMB Control Number: 2130-0593.

Abstract: This collection of information is necessary to enable FRA to garner customer and stakeholder feedback in an efficient, timely manner, consistent with its commitment to improving service delivery. The information collected from FRA's customers and stakeholders will help ensure users have an effective, efficient, and satisfying experience with FRA's programs. This feedback will provide insights into customer or stakeholder perceptions, experiences and expectations, provide an early indicator of issues with service, and focus attention on areas where communication, training or changes in operations might improve delivery of products or services. This collection will allow ongoing, collaborative, and actionable communications between FRA and its customers and stakeholders. It also allows feedback to contribute directly to the improvement of program management.

Improving FRA's programs requires ongoing assessment of service delivery, meaning a systematic review of the operation of a program compared to a set of explicit or implicit standards as a means of contributing to the continuous improvement of the program. FRA will collect, analyze, and interpret information gathered through this generic clearance to identify strengths and weaknesses of current services and make improvements in service delivery based on feedback. The solicitation of feedback will target areas such as: timeliness, appropriateness, accuracy of information, courtesy, efficiency of service delivery, and resolution of issues with service delivery. FRA will assess responses to plan and inform efforts to improve or maintain the quality of service offered to the public. If this information is not collected, vital feedback from customers and stakeholders on FRA's services will be unavailable.

FRA will only submit a collection for approval under this generic clearance under the following conditions:

• The information gathered is only used internally for general service improvement and program management purposes and is not intended for public release;

• The information gathered is not used to substantially inform significant policy decisions;

• The information gathered will yield qualitative information; FRA will not design the collection or expect it to yield statistically reliable results or use it as though the results are generalizable to the population of study;

• Participation in the collection is voluntary;

• The collection is low-burden for respondents (based on considerations of total burden hours, total number of respondents, or burden-hours per respondent) and is low-cost for both the respondents and the Federal Government;

• The collection is non-controversial and does not raise issues of concern to other Federal agencies;

• The collection is directed to the solicitation of opinions from respondents who have experience with the OMB program or may have experience with the OMB program soon after receiving the collection; and

• With the exception of information needed to provide remuneration for participants of focus groups and cognitive laboratory studies, personally identifiable information (PII) is collected only to the extent necessary and is not retained by FRA.

Type of Request: Extension without change of a current information collection.

Affected Public: Individuals and Households, Businesses and Organizations, State, Local or Tribal Governments.

Frequency of Submission: Once per request.

Reporting Burden:

Estimated Annual Reporting Burden
Type of collection | Respondent universe | Total annual responses | Average time per responses (minutes) | Total annual burden hours
1. Surveys, comment cards, interviews, focus groups, and web-based technologies for Customer Service Satisfaction and Delivery for the Office of the Administrator | 350 | Annual, periodically | 10 | 59
2. Surveys, comment cards, interviews, focus groups, and web-based technologies for Customer Service Satisfaction and Delivery for the Office of Railroad Safety, Safety Assurance and Compliance | 350 | Annual, periodically | 10 | 59
3. Surveys, comment cards, interviews, focus groups, and web-based technologies for Customer Service Satisfaction and Delivery for the Office of Railroad Safety, Passenger Rail | 350 | Annual, periodically | 10 | 59
4. Surveys, comment cards, interviews, focus groups, and web-based technologies for Customer Service Satisfaction and Delivery for the Office of Railroad Safety, Safety Analysis | 350 | Annual, periodically | 10 | 59
5. Surveys, comment cards, interviews, focus groups, and web-based technologies for Customer Service Satisfaction and Delivery for the Office of Railroad Policy and Development, Research and Development and Passenger and Freight Programs | 350 | Annual, periodically | 10 | 59
6. Surveys, comment cards, interviews, focus groups, and web-based technologies for Customer Service Satisfaction and Delivery for the Office of Financial Management and Administration | 350 | Annual, periodically | 10 | 59
Annual Total (estimated) | 2,100 |  |  | 354

Total Estimated Annual Responses: 2,100.

Total Estimated Annual Burden Hours: 354.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Brett A. Jortland,
Acting Chief Counsel.

[FR Doc. 2019-27464 Filed 12-19-19; 8:45 am]

BILLING CODE 4910-06-P